OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Deborah Grade, Director, Washington Services Branch, Center for Talent Services, Division for Human Resources Products and Services. (202) 606-5027.

SUPPLEMENTARY INFORMATION: Appearing in the listing below are the individual authorities established under Schedule C between November 1, 2003 and November 30, 2003. Future notices will be published on the fourth Tuesday of each month, or as soon as possible thereafter. A consolidated listing of all authorities as of June 30 is published each year.

Schedule A

No Schedule A appointments for November 2003.

Schedule B

No Schedule B appointments for November 2003.

Schedule C

The following Schedule C appointments were approved for November:

Section 213.3303 Executive Office of the President, Office of Management and Budget

BOGS60021 Press Secretary to the Deputy Director for Management. Effective November 24, 2003.

BOGS60011 Special Assistant to the Administrator, Office of Information and Regulatory Affairs. Effective November 25, 2003.

Section 213.3304 Department of State

DSGS60708 Senior Advisor to the Representative to the United Nations. Effective November 05, 2003.

DSGS60715 Special Assistant to the Under Secretary for Arms Control and Security Affairs. Effective November 05, 2003.

DSGS60707 Executive Director to the Under Secretary for Arms Control and Security Affairs. Effective November 07, 2003.

DSGS60710 Special Assistant to the Under Secretary for Global Affairs. Effective November 13, 2003.

DSGS60711 Staff Assistant to the Deputy Ambassador-at-Large for War Crimes. Effective November 13, 2003.

DSGS60716 Legislative Management Officer to the Assistant Legal Adviser for African Affairs. Effective November 13, 2003.

DSGS60709 Staff Assistant to the Chief Financial Officer. Effective November 18, 2003.

DSGS60719 Senior Advisor to the Comptroller. Effective November 19, 2003.

Section 213.3305 Department of the Treasury

DYGS00436 Public Affairs Specialist to the Deputy Assistant Secretary (Public Affairs). Effective November 21, 2003.

Section 213.3306 Department of Defense

DDGS16774 Speechwriter to the Special Advisor to the Deputy Secretary of Defense for Communications Strategy. Effective November 10, 2003.

DDGS16694 Special Assistant to the Principal Deputy Assistant Secretary of Defense (Legal Affairs). Effective November 14, 2003.

DDGS00771 Staff Assistant to the Principal Deputy Assistant Secretary of Defense (International Security Affairs). Effective November 21, 2003.

DDGS00772 Staff Assistant to the Principal Deputy Assistant Secretary of Defense (International Security Affairs). Effective November 21, 2003.

DDGS00778 Staff Assistant to the Deputy Assistant Secretary of Defense (Negotiations Policy). Effective November 21, 2003.

DDGS00779 Staff Assistant to the Principal Deputy Assistant Secretary of Defense (International Security Affairs). Effective November 21, 2003.

DDGS16777 Defense Fellow to the Director of Administration and Management/Director of Washington Headquarters Service. Effective November 21, 2003.

Section 213.3310 Department of Justice

DJGS00041 Special Assistant to the Director, Office of Public Affairs. Effective November 05, 2003.

DJGS60233 Counsel to the Assistant Attorney General, Civil Division. Effective November 05, 2003.

Section 213.3311 Department of Homeland Security

DMGS00152 Special Projects Coordinator to the Director of Special Projects. Effective November 05, 2003.

DMGS00153 Staff Assistant to the Chief of Staff. Effective November 13, 2003.

Section 213.3313 Department of Agriculture

DAGS00201 Director, Intergovernmental Affairs to the Assistant Secretary for Congressional Relations. Effective November 04, 2003.

DAGS00193 Special Assistant to the Under Secretary for Marketing and Regulatory Programs. Effective November 21, 2003.

Section 213.3314 Department of Commerce

DCGS00200 Legislative Affairs Specialist to the Deputy Secretary. Effective November 05, 2003.

DCGS00278 Special Assistant to the Assistant Secretary for Export Administration. Effective November 05, 2003.

DCGS00675 Special Assistant to the Assistant Secretary for Market Access and Compliance. Effective November 14, 2003.

DCGS00629 Deputy Director of Public Affairs to the Director of Public Affairs. Effective November 18, 2003.

DCGS00680 Deputy Press Secretary to the Director of Public Affairs. Effective November 18, 2003.

DCGS00571 Senior Policy Advisor to the Deputy Assistant Secretary for Service Industries, Tourism. Effective November 21, 2003.

DCGS00420 Special Assistant to the Deputy Assistant Secretary for Export Promotion Services. Effective November 24, 2003.

DCGS00558 Confidential Assistant to the Chief of Staff. Effective November 24, 2003.

DCGS00609 Confidential Assistant to the Chief of Staff. Effective November 24, 2003.

DCGS00628 Confidential Assistant to the Deputy Assistant Secretary for Export Promotion Services. Effective November 24, 2003.

Section 213.3315 Department of Labor

DLGS60003 Special Assistant to the Secretary of Labor. Effective November 13, 2003.

DLGS60116 Special Assistant to the Chief Financial Officer. Effective November 13, 2003.

DLGS60149 Special Assistant to the Director of the Women's Bureau. Effective November 13, 2003.

DLGS60247 Intergovernmental Assistant to the Assistant Secretary for Congressional and Intergovernmental Affairs. Effective November 13, 2003.

DLGS60174 Staff Assistant to the Secretary of Labor. Effective November 21, 2003.

DLGS60182 Staff Assistant to the Deputy Secretary of Labor. Effective November 21, 2003.

DLGS60220 Special Assistant to the Assistant Secretary for Public Affairs. Effective November 25, 2003.

Section 213.3317 Department of Education

DBGS00300 Confidential Assistant to the Chief of Staff. Effective November 04, 2003.

DBGS00299 Special Assistant to the Assistant Secretary for Elementary and Secondary Education. Effective November 07, 2003.

Section 213.3331 Department of Energy

DEGS00382 Senior Policy Advisor to the Assistant Secretary of Energy (Environmental Management). Effective November 05, 2003.

DEGS00386 Director, Press Office to the Director, Public Affairs. Effective November 21, 2003.

Section 213.3332 Small Business Administration

SBGS60174 Regional Administrator to the Associate Administrator for Field Operations. Effective November 19, 2003.

Section 213.3351 Federal Mine Safety and Health Review Commission

FRGS90501 Attorney Advisor (General) to the Chairman. Effective November 04, 2003.

FRGS90504 Attorney Advisor (General) to a Member. Effective November 04, 2003.

Section 213.3382 National Endowment for the Arts

NAGS00051 National Initiatives Program Manager to the Senior Deputy Chairman. Effective November 05, 2003.

Section 213.3394 Department of Transportation

DTGS60365 Special Assistant to the Assistant Secretary for Transportation Policy. Effective November 10, 2003.

DTGS60237 Special Assistant to the Director of Public Affairs. Effective November 13, 2003.

DTGS60268 Speechwriter to the Associate Director for Speechwriting. Effective November 13, 2003.

Authority: 5 U.S.C. 3301 and 3302; E.O. 10577, 3 CFR 1954-1958 Comp., p. 218

Office of Personnel Management.
Kay Coles James,
Director.

[FR Doc. 04-1175 Filed 1-20-04; 8:45 am]

BILLING CODE 6325-38-P